ENVIRONMENTAL PROTECTION AGENCY

[OPPT-2003-0060; FRL-7333-1]

National Advisory Committee for Acute Exposure Guideline Levels; Notice of Public Meeting

AGENCY: Environmental Protection Agency (EPA).

ACTION: Notice.

SUMMARY: A meeting of the National Advisory Committee for Acute Exposure Guideline Levels for Hazardous Substances (NAC/AEGL Committee) will be held on December 10-12, 2003, in San Antonio, TX. At this meeting, the NAC/AEGL Committee will address, as time permits, the various aspects of the acute toxicity and the development of Acute Exposure Guideline Levels (AEGLs) for the following chemicals: Acetyl chloride, acrylic acid, ammonia, benzonitrile, bromine, chloroacetyl chloride, dichloroacetyl chloride, disulfur dichloride, hydrogen iodide, methacrylonitrile, methyl chloride, methyl ethyl ketone, oleum, sulfur dichloride, sulfur trioxide, sulfuric acid, tetrachloroethylene, trichloroacetyl chloride, uranium hexafluoride, vinyl acetate monomer, and xylenes.

DATES: The meeting will be held on December 10, 2003, from 10 a.m. to 5:30 p.m.; December 11, 2003, from 8:30 a.m. to 5:30 p.m.; December 12, 2003, from 8 a.m. to 12:30 p.m.

Requests to participate in the meeting, identified by docket ID number OPPT-2003-0060, must be received on or before December 8, 2003.

ADDRESSES: The meeting will be held at La Mansion Del Rio, 112 College St., San Antonio, TX 78205.

Requests to participate in the meeting may be submitted to the technical person listed under FOR FURTHER INFORMATION CONTACT.

FOR FURTHER INFORMATION CONTACT: For general information contact: Barbara Cunningham, Director, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Paul S. Tobin, Economics and Technology Division (7406M), Office of Pollution Prevention and Toxics, Environmental Protection Agency, 1200 Pennsylvania Ave., NW., Washington, DC 20460-0001; telephone number: (202) 564-8557; e-mail address: tobin.paul@epa.gov.

SUPPLEMENTARY INFORMATION:

I. General Information

A. Does this Action Apply to Me?

This action is directed to the public in general. This action may be of particular interest to anyone who may be affected if the AEGL values are adopted by government agencies for emergency planning, prevention, or response programs, such as EPA's Risk Management Program under the Clean Air Act and Amendments Section 112r. It is possible that other Federal agencies besides EPA, as well as State agencies and private organizations, may adopt the AEGL values for their programs. As such, the Agency has not attempted to describe all the specific entities that may be affected by this action. If you have any questions regarding the applicability of this action to a particular entity, consult the technical person listed under FOR FURTHER INFORMATION CONTACT.

B. How Can I Get Copies of this Document and Other Related Information?

1. Docket. EPA has established an official public docket for this action under docket identification (ID) number OPPT-2003-0060. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Background

The NAC/AEGL Committee develops AEGLs for use in chemical emergency programs. The NAC/AEGL Committee meets approximately four times each year. The next meeting of the NAC/AEGL Committee is tentatively scheduled for March 2004 in Washington, DC.

III. How Can I Request to Participate in this Meeting?

You may submit a request to participate in this meeting to the technical person listed under FOR FURTHER INFORMATION CONTACT. Do not submit any information in your request that is considered CBI. Requests to participate in the meeting, identified by docket ID number OPPT-2003-0060, must be received on or before December 8, 2003.

List of Subjects

Environmental protection, Acute Exposure Guideline Levels, Chemicals, Hazardous substances, Health.

Dated: November 13, 2003.
Charles M. Auer,
Director, Office of Pollution Prevention and Toxics.

[FR Doc. 03-29433 Filed 11-24-03; 8:45 am]

BILLING CODE 6560-50-S